DEPARTMENT OF THE TREASURY

Submission for OMB Review; Comment Request

January 23, 2003.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before March 5, 2003, to be assured of consideration.

Internal Revenue Service (IRS)

OMB Number: 1545-1530.

Form Number: None.

Type of Review: Extension.

Title: Tip Rate Determination Agreement (Gaming Industry).

Description: Information is required by the Internal Revenue Service in its Compliance efforts to assist employers and their employees in understanding and complying with section 6053(a), which requires employees to report all their tips monthly to their employers.

Respondents: Business or other for-profit.

Estimated Number of Respondents/Recordkeepers: 100.

Estimated Burden Hours Per Respondent/Recordkeeper: 43 hours, 40 minutes.

Frequency of Response: On occasion.

Estimated Total Reporting/Recordkeeping Burden: 4,367 hours.

OMB Number: 1545-1670.

Regulation Project Number: REG-105606-99 NPRM.

Type of Review: Extension.

Title: Credit for Increasing Research Activities.

Description: The proposed regulations address the computation of the credit for increasing research activities for members of a controlled group and the allocation of the credit under section 41(f) of the Internal Revenue Code.

Respondents: Business or other for-profit.

Estimated Number of Respondents: 10.

Estimated Burden Hours Per Respondent: 20 hours.

Frequency of Response: On occasion.

Estimated Total Reporting Burden: 200 hours.

OMB Number: 1545-1676.

Regulation Project Number: REG-113572-99 Final.

Type of Review: Extension.

Title: Qualified Transportation Fringe Benefits.

Description: These regulations provide guidance to employers that provide qualified transportation fringe benefits under section 132(f), including guidance to employers that provide cash reimbursement for qualified transportation fringes and employers that offer qualified transportation fringes in lieu of compensation. Employers that provide cash reimbursement are required to keep records of documentation received from employees who receive reimbursement. Employers that offer qualified transportation fringes in lieu of compensation are required to keep records of employee compensation reduction elections.

Respondents: Business or other for-profit, individual or households, not-for-profit institutions, Federal Government, State, Local or Tribal Government.

Estimated Number of Respondents/Recordkeepers: 7,530,313.

Estimated Burden Hours Per Respondent/Recordkeeper: 8 hours.

Frequency of Response: Monthly.

Estimated Total Reporting/Recordkeeping Burden: 12,968,728 hours.

OMB Number: 1545-1678.

Regulation Project Number: REG-161424-01 Final and REG-105316-98 Final.

Type of Review: Extension.

Title: REG-161424-01 Final: Information Reporting for Qualified Tuition and Related Expenses; Magnetic Media Filing Requirements for Information Returns, and REG-105316-98 Final: Information Reporting for Payments of Interest on Qualified Education Loans; Magnetic Media Filing Requirements for Information Returns.

Description: These regulations related to the information reporting requirements in section 6050S of the Internal Revenue Code of the Internal Revenue code for payments of qualified tuition and related expenses and interest on qualified education loans. These regulations provide guidance to eligible education institutions, insurers, and payees required to file information returns and to furnish information statements under section 6050S.

Respondents: Not-for-profit, business or other for-profit.

Estimated Number of Respondents: 1.

Estimated Burden Hours Per Respondent: 1 hour.

Estimated Total Reporting Burden: 1 hour.

Clearance Officer: Glenn Kirkland, Internal Revenue Service, Room 6411-03, 1111 Constitution Avenue, NW., Washington, DC 20224, (202) 622-3428.

OMB Reviewer: Joseph F. Lackey, Jr., Office of Management and Budget, Room 10235, New Executive Office Building, Washington, DC 20503, (202) 395-7316.

Lois K. Holland,
Departmental Reports Management Officer.

[FR Doc. 03-2408 Filed 1-31-03; 8:45 am]

BILLING CODE 4830-01-P